DEPARTMENT OF JUSTICE

Notice of Lodging of Consent Decree

Notice is hereby given that on September 17, 2010, an electronic version of a proposed Consent Decree was lodged in the United States District Court for the Western District of Kentucky in United States and the Commonwealth of Kentucky v. Westlake Vinyls, Inc. and Westlake PVC Corporation, No. 5:10-CV-00168-TBR. The Consent Decree resolves claims of the United States and the Commonwealth of Kentucky against Westlake Vinyls, Inc. and Westlake PVC Corporation (“Westlake”) for civil penalties and injunctive relief based on violations of the Clean Air Act, 42 U.S.C. 7401 et seq., as well as the Air Implementation Plan for the Commonwealth of Kentucky (the “Kentucky SIP”) promulgated and approved by EPA pursuant to the Clean Air Act; the Clean Water Act, 33 U.S.C. 1251 et seq., and applicable laws and regulations implementing the Clean Water Act; the Resource Conservation and Recovery Act, 42 U.S.C. 6901 et seq. and implementing regulations; Sections 103(a) and 109(c) of the Comprehensive Environmental Response, Compensation, and Liability Act, as amended (“CERCLA”), 42 U.S.C. 9603(a) and 9609(c), and implementing regulations codified at 40 CFR part 302; and sections 304, 313 and 325(b)(3) of the Emergency Planning and Community Right-to-Know Act of 1986 (“EPCRA”), 42 U.S.C. 11004, 11013 and 11045(b)(3).

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States et al. v. Westlake Vinyls, Inc. et al., No. 5:10-CV-00168-TBR and DOJ No. 90-5-2-1-08097.

Under the proposed consent decree, Westlake will perform injunctive relief. With regard to Clean Air Act injunctive relief, Westlake will implement a reroute of certain vent streams so that at least 40% of the emissions from an absorber vent can be routed to the operating incinerator in case of an incinerator outage. The company has installed flow meters that will measure for compliance. Westlake will follow a specific protocol for three years in the case of both planned and unplanned incinerator outages. During all incinerator outages, Westlake will maintain the absorber vent as a Group 2 process vent under the Hazardous Organic NESHAP regulations.

For three years, Westlake will also implement an enhanced Leak Detection and Repair program to control emissions of hazardous air pollutants. In addition, Westlake will implement an enhanced daily monitoring for the cooling towers according to a protocol approved by EPA and the Commonwealth.

Under the consent decree, Westlake will submit revised Leak Detection and Elimination Plans, as required by applicable regulations, for the vinyl chloride and the polyvinyl chloride plants, including a Leak Detection Plan and an Area Monitoring Plan, with specific changes as outlined in the consent decree.

Westlake will review the most recent Total Annual Benzene (“TAB”) report for the vinyl chloride plant to determine if the TAB report is in compliance with the compliance option Westlake has selected and will provide a report to EPA and the Commonwealth.

For purposes of New Source Review permitting under the Clean Air Act, the consent decree specifies that the polyvinyl chloride plant and the vinyl chloride plant are under Westlake's common control, and Westlake will not contest administratively or judicially a finding by the Commonwealth or any other permitting authority under the Clean Air Act that the two plants are a “single source” for purposes of permitting.

With respect to Resource Conservation and Recovery Act injunctive relief, Westlake will conduct a subsurface investigation and will perform any necessary remediation at various lift stations at the polyvinyl chloride plant. Westlake will sample and test the integrity of lift stations 7 and 9 pursuant to an approved workplan and will perform a subsurface investigation of the facility if EPA decides one is required. In any case, Westlake will perform an investigation for Lift 8 pursuant to an approved work plan. Westlake will implement any corrective measures required by EPA, and will post financial assurance.

With regard to reporting of releases of hazardous substances under EPCRA/CERCLA, Westlake will review its training procedures to ensure that all personnel are adequately trained and establish standard operating procedures. Westlake will modify its Spill/Release Reporting Policy according to protocol designed by EPA.

For Clean Water Act injunctive relief, Westlake will update its Spill Prevention Control and Countermeasures Plan ensuring that all regulated tanks are included and will comply with the plan.

The consent decree resolves the civil claims in the complaint filed in the case as well as violations listed in notices of violation issued to Westlake through the date of lodging of the decree on September 17, 2010. The United States will also covenant not to sue or take administrative action under Section 3008(a) and (h) of Resource Conservation and Recovery Act, 42 U.S.C. 6928(a) and (h), against Westlake for performance of the Resource Conservation and Recovery Act injunctive relief at the polyvinyl chloride plant, conditioned upon satisfactory performance.

EPA estimates that there will be a substantial reduction in hazardous air pollutant emission under the terms of the proposed consent decree. The incinerator rerouting, along with improved Leak Detection and Repair compliance, should result reductions of vinyl chloride emissions by approximately 2,280 pounds per year, ethylene emissions by approximately 204,687 pounds per year, and 1,2 dichloroethane emissions by approximately 1,284 pounds per year.

Under the proposed consent decree, Westlake will pay a civil penalty of $800,000, of which $700,000 will be paid to the United States and $100,000 will be paid to the Commonwealth. Due to the Clean Water Act violations, $12,500 of the civil penalty will go to Oil Spill Liability Trust Fund pursuant to 33 U.S.C. 132l(s).

The Consent Decree may be examined at the Office of the United States Attorney for the Western District of Kentucky, 501 Broadway, Room 29, Paducah, Kentucky 42001. During the public comment period, the Consent Decree may also be examined on the following Department of Justice: http://www.usdoj.gov/enrd/Consent_Decrees.html. A copy of the Consent Decree may also be obtained by mail from the Consent Decree Library, P.O. Box 7611, U.S. Department of Justice, Washington, DC 20044-7611, or by faxing or e-mailing a request to Tonia Fleetwood, tonia.fleetwood@usdoj.gov, Fax No. (202) 514-0097, phone confirmation number (202) 514-1547. In requesting a copy from the Consent Decree Library, please enclose a check in the amount of $43.25 (25 cents per page reproduction cost) payable to the U.S. Treasury.

Maureen Katz,
Assistant Section Chief, Environmental Enforcement Section, Environment and Natural Resources Division.

[FR Doc. 2010-26415 Filed 10-20-10; 8:45 am]

BILLING CODE 4410-15-P